DEPARTMENT OF COMMERCE

National Oceanic and Atmospheric Administration

[RTID 0648-XD789]

Caribbean Fishery Management Council; Public Meeting

AGENCY: National Marine Fisheries Service (NMFS), National Oceanic and Atmospheric Administration (NOAA), Commerce.

ACTION: Notice of a public virtual meeting.

SUMMARY: The Caribbean Fishery Management Council's (Council) Scientific and Statistical Committee (SSC) will hold a two-and-a-half-day public hybrid meeting to address the items contained in the tentative agenda included in the SUPPLEMENTARY INFORMATION.

DATES: The SSC public hybrid meeting will be held on April 9, 2024, from 10 a.m. to 5 p.m.; April 10, 2024, from 10 a.m. to 5 p.m.; and April 11, 2024, from 10 a.m. to 2 p.m., Atlantic Standard Time (AST).

ADDRESSES: The SSC public hybrid meeting will be held at the Courtyard by Marriott Isla Verde Beach Resort, 7012 Boca de Cangrejos Avenue, Carolina, Puerto Rico 00979.

You may join the SSC public virtual meeting via Zoom from a computer, tablet, or smartphone by entering the following address: https://us02web.zoom.us/j/81086075177?pwd=TlBLb0NjWmZaR2h0b2NEbmpOTWtiQT09.

Meeting ID: 810 8607 5177.

Passcode: 546850.

One tap mobile:

+17193594580,,81086075177#,,,,*546850# US

+12532050468,,81086075177#,,,,*546850# US

Dial by your location:

+1 301 715 8592 US (Washington DC)

+1 305 224 1968 US

+1 309 205 3325 US

+1 646 558 8656 (New York)

+1 669 900 9128 US (San Jose)

+1 939 945 0244 (Puerto Rico)

Meeting ID: 810 8607 5177.

Passcode: 546850.

Find your local number: https://us02web.zoom.us/u/kQvrOfR9i.

In case of problems with ZOOM, please join the meeting via GoToMeeting by entering the following address: https://meet.goto.com/768055309. You can also dial in using your phone.

Access Code: 768-055-309.

United States: +1 (571) 757-317-3122.

Join from a video-conferencing room or system.

Meeting ID: 768-055-309.

Dial in or type: 67.217.95.2 or inroomlink.goto.com.

Or dial directly: 768055309@67.217.95.2 or 67.217.95.2##768055309.

Get the app now and be ready when your first meeting starts at: https://meet.goto.com/install.

FOR FURTHER INFORMATION CONTACT: Graciela García-Moliner, Caribbean Fishery Management Council, 270 Muñoz Rivera Avenue, Suite 401, San Juan, Puerto Rico 00918-1903; telephone: (787) 766-5926.

SUPPLEMENTARY INFORMATION: The following items included in the tentative agenda will be discussed:

April 9, 2024

10 a.m.-10:30 a.m.

—Call to Order

—Roll Call

—Approval of Agenda

—Approval of Minutes

10:30 a.m.-12:30 p.m.

—SEDAR 80 USVI St. Thomas Queen Triggerfish—Adyan Rios, SEFSC Caribbean Fisheries Branch, and Kyle Shertzer, SEFSC Atlantic Fisheries Branch

12:30 p.m.-1:30 p.m.

—Lunch Break

1:30 p.m.-3 p.m.

—SEDAR 80 USVI St. Thomas Queen Triggerfish Assessment (continuation) Discussion

3 p.m.-3:15 p.m.

—Break

3:15 p.m.-5 p.m.

—SSC Recommendations

April 10, 2024

10 a.m.-12:30 p.m.

—SEDAR 80 USVI St. Croix Queen Triggerfish—Adyan Rios, SEFSC Caribbean Fisheries Branch, and Kyle Shertzer, SEFSC Atlantic Fisheries Branch

12:30 p.m.-1:30 p.m.

—Lunch Break

1:30 p.m.-3 p.m.

—SEDAR 80 USVI St. Croix Queen Triggerfish Assessment (continuation) Discussion

3 p.m.-3:15 p.m.

—Break

3:15 p.m.-5 p.m.

—SSC Recommendations

—SSC Final Recommendations to CFMC

April 11, 2024

10 a.m.-11:15 a.m.

—Eight National Scientific and Statistical Committee Workshop August 26-28 2024—SEFSC Staff

11:15 a.m.-12:15 p.m.

—Revision ACL Rainbow Runner—Sarah Stephenson, SERO

12:15 p.m.-1:15 p.m.

—SEDAR 91 Caribbean Spiny Lobster

—SSC Members Volunteers

1:15 p.m.-2 p.m.

—Other Business

—IRA proposals Update

—SERO and SEFSC Updates

—Next Meeting

—Adjourn

The order of business may be adjusted as necessary to accommodate the completion of agenda items. The meeting will begin on April 9, 2024, at 10 a.m. AST, and will end on April 11, 2024, at 2 p.m., AST.

Other than the start time, interested parties should be aware that discussions may start earlier or later than indicated at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: March 18, 2024.
Rey Israel Marquez,
Acting Deputy Director, Office of Sustainable Fisheries, National Marine Fisheries Service.

[FR Doc. 2024-06007 Filed 3-20-24; 8:45 am]

BILLING CODE 3510-22-P